NATIONAL SCIENCE FOUNDATION

Sunshine Act Meeting; National Science Board

The National Science Board's Committee on National Science and Engineering Policy (SEP), pursuant to NSF regulations (45 CFR part 614), the National Science Foundation Act, as amended (42 U.S.C. 1862n-5), and the Government in the Sunshine Act (5 U.S.C. 552b), hereby gives notice of the scheduling of two teleconference meetings for the transaction of National Science Board business, as follows:

TIME AND DATE: Tuesday, September 10, 2019 at 2:00 p.m.-2:30 p.m. EDT; and Tuesday, September 10, 2019 at 2:30-3:30 p.m. EDT.

PLACE: These meetings will be held by teleconference at the National Science Foundation, 2415 Eisenhower Avenue, Alexandria, VA 22314. An audio link will be available for the public. Members of the public must contact the Board Office to request the public audio link by sending an email to nationalsciencebrd@nsf.gov at least 24 hours prior to the teleconference.

STATUS: Open.

MATTERS TO BE CONSIDERED:

For the 2:00 p.m. meeting: Chair's opening remarks; presentation on the revision plan for the U.S. and International R & D report for Science and Engineering Indicators 2020, developed in response to reviews from NSB members, federal agency stakeholders and content experts. SEP will discuss and provide feedback to the report authors on the revision plan.

For the 2:30 meeting: Chair's opening remarks; presentation on the revision plan for The State of U.S. Science & Engineering (the new “summary report”) for Science and Engineering Indicators 2020, developed in response to reviews from NSB members, federal agency stakeholders and content experts. SEP will discuss and provide feedback to the report authors on the revision plan.

CONTACT PERSON FOR MORE INFORMATION: Point of contact for this meeting is: Reba Bandyopadhyay (rbandyop@nsf.gov), 703/292-7000.

Meeting information and updates (time, place, subject matter or status of meeting) may be found at http://www.nsf.gov/nsb/meetings/notices.jsp#sunshine. Please refer to the National Science Board website www.nsf.gov/nsb for additional information.

Christopher Blair,
Executive Assistant, National Science Board Office.

[FR Doc. 2019-19418 Filed 9-4-19; 4:15 pm]

BILLING CODE 7555-01-P